DEPARTMENT OF TRANSPORTATION

Surface Transportation Board

[Docket No. FD 35570]

Port Rail Link, Inc.—Acquisition and Operation Exemption—Rail Lines of Union Pacific Railroad Company and The Lake Charles Harbor and Terminal District

Port Rail Link, Inc. (PRL), a noncarrier, has filed a verified notice of exemption under 49 CFR 1150.31 to: (1) Acquire by lease from Union Pacific Railroad Company (UP) and operate a 2.3-mile rail line between mileposts 9.45 and 7.15, at or near Harbor Yard at Lake Charles; and (2) acquire by lease from The Lake Charles Harbor and Terminal District (the District), operator of the Port of Lake Charles (the Port), and operate a 2.8-mile rail line between mileposts 0.0 and 2.8 at or near the City Docks of the Port, a total distance of 5.1 miles in Calcasieu Parish, La.¹

¹ UP and the District use different milepost designations. The 2.3-mile segment is identified by UP milepost numbers and the 2.8-mile segment is identified by District milepost numbers. The line segments connect at UP milepost 9.45, which is District milepost 2.8.

PRL states that it will interchange manifest traffic with UP at Harbor Yard and interchange unit trains with UP at New Yard, located adjacent to UP's industrial lead track.

The transaction may not be consummated until December 17, 2011 (30 days after the notice of exemption was filed).

PRL certifies that its projected annual revenues as a result of this transaction will not result in its becoming a Class II or Class I rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than December 9, 2011 (at least 7 days before the exemption becomes effective).

An original and 10 copies of all pleadings, referring to Docket No. FD 35570, must be filed with the Surface Transportation Board, 395 E Street, SW., Washington, DC 20423-0001. In addition, a copy of each pleading must be served on Thomas F. McFarland, 208 South LaSalle St., Suite 1890, Chicago, IL 60604.

Board decisions and notices are available on our Web site at http://www.stb.dot.gov.

Decided: November 25, 2011.
By the Board.
Joseph H. Dettmar,
Acting Director, Office of Proceedings.
Raina S. White,
Clearance Clerk.

[FR Doc. 2011-30900 Filed 12-1-11; 8:45 am]

BILLING CODE 4915-01-P